DEPARTMENT OF TRANSPORTATION

Federal Aviation Administration

14 CFR Part 73

[Docket No. FAA-2011-1274; Airspace Docket No. 11-ASO-34]

RIN 2120-AA66

Amendment of Restricted Areas R-3704A and R-3704B; Fort Knox, KY

AGENCY: Federal Aviation Administration (FAA), DOT.

ACTION: Final rule; technical amendment.

SUMMARY: This action makes several editorial corrections to the descriptions of restricted areas R-3704A and R-3704B, Fort Knox, KY.

DATES: Effective date 0901 UTC, April 5, 2012.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

A review of the descriptions of restricted areas R-3704A and R-3704B at Fort Knox, KY identified the need for several editorial corrections. The description for R-3704A requires the following corrections. In the “designated altitudes,” the existing words “and including” are unnecessary. As stated in 14 CFR 73.3, the word “to” (an altitude or flight level) means “to and including” (that altitude or flight level); therefore, the wording of R-3704A is being amended to read “Surface to 10,000 feet MSL.” In addition, the current time of designation for R-3704A states “EST” (for eastern standard time). This is incorrect since the restricted area is used year-round during both standard and daylight time periods. Because the State of Kentucky lies within both the eastern and central time zones, it is appropriate that the time of designation signify which time zone is being used for activation of the restricted area. Therefore, the R-3704A time of designation is being amended by removing “EST” and replacing it with the words “eastern time.” Lastly, the name of the R-3704A using agency is amended to reflect the correct U.S. Army organization responsible for the airspace.

The description of R-3704B also requires several editorial corrections. The controlling agency for both R-3704A and R-3708B is currently listed as “FAA, Standiford Control Tower, Louisville, KY.” The altitude dividing line between the two areas is 10,000 feet mean sea level (MSL). Due to Air Traffic Control facility airspace delegations, the airspace above 10,000 feet MSL in that area is assigned to the Indianapolis Air Route Traffic Control Center (ARTCC). Therefore, the controlling agency for R-3704B is being changed to read “FAA, Indianapolis ARTCC.” Further, the designated altitudes for R-3704B are being changed from “10,000 feet MSL to 20,000 feet MSL,” to “10,001 feet MSL to 20,000 feet MSL.” This will preclude overlapping airspace jurisdiction between the two FAA facilities. As described above for R-3704A, the using agency name for R-3704B is also being changed to reflect the correct U.S. Army organization responsible for the airspace.

The Rule

This action amends Title 14 Code of Federal Regulations (14 CFR) part 73 by making several editorial corrections to the descriptions of restricted areas R-3704A and R-3704B, Fort Knox, KY. For R-3704A, the designated altitudes are amended by removing the words “Surface to and including 10,000 feet MSL” and inserting the words “Surface to 10,000 feet MSL.” The time of designation is amended by removing the words “0600 to 2400 EST; other times by NOTAM 24 hours in advance,” and inserting the words “0600 to 2400 eastern time; other times by NOTAM 24 hours in advance”. The using agency is amended by removing the words “Commanding General, U.S. Army Armor Center, Fort Knox, KY” and inserting the words “Commanding General, Human Resources Center of Excellence, Fort Knox, KY.” The description of R-3704B is amended as follows. The designated altitudes are amended by removing the words “10,000 feet MSL to 20,000 feet MSL” and inserting the words “10,001 feet MSL to 20,000 feet MSL.” The controlling agency is amended by removing the words “FAA, Standiford Control Tower, Louisville, KY” and inserting the words “FAA, Indianapolis ARTCC.” The using agency is amended by removing the words “Commanding General, U.S. Army Armor Center, Fort Knox, KY” and inserting the words “Commanding General, Human Resources Center of Excellence, Fort Knox, KY.”

This is an administrative change to update the title of the using agency and make editorial corrections. It does not affect the boundaries, overall designated altitudes, or activities conducted within the restricted area; therefore, notice and public procedures under 5 U.S.C. 553(b) are unnecessary.

Section 73.37 of Title 14, CFR part 73 was republished in FAA Order 7400.8T, effective February 16, 2011.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as amends the description of Restricted Areas R-3704A and R-3704B, Fort Knox, KY.

Environmental Review

The FAA has determined that this action qualifies for categorical exclusion under the National Environmental Policy Act in accordance with FAA Order 1050.1E, Environmental Impacts: Policies and Procedures, paragraph 311d. This airspace action is an editorial change to the descriptions of the affected restricted areas to update the using agency names and make editorial corrections to the time of designation and designated altitudes. It does not alter the actual altitudes or times of designation of the restricted airspace at Fort Knox, KY; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.37 [Amended]

2. Section 73.37 is amended as follows:

* * * * *

R-3704A Fort Knox, KY [Amended]

By removing the current Designated altitudes, Time of designation and Using agency and substituting the following:

Designated altitudes. Surface to 10,000 feet MSL.

Time of designation. 0600 to 2400 eastern time; other times by NOTAM 24 hours in advance.

Using agency. Commanding General, Human Resources Center of Excellence, Fort Knox, KY.

R-3704B Fort Knox, KY [Amended]

By removing the current Designated altitudes, Controlling agency and Using agency and substituting the following:

Designated altitudes. 10,001 feet MSL to 20,000 feet MSL.

Controlling agency. FAA, Indianapolis ARTCC.

Using agency. Commanding General, Human Resources Center of Excellence, Fort Knox, KY.

Issued in Washington, DC on January 12, 2012.
Gary A. Norek,
Acting Manager, Airspace, Regulations and ATC Procedures Group.

[FR Doc. 2012-1397 Filed 1-23-12; 8:45 am]

BILLING CODE 4910-13-P